DEPARTMENT OF COMMERCE

International Trade Administration

[A-580-874]

Certain Steel Nails From the Republic of Korea: Preliminary Results of Antidumping Duty Administrative Review and Partial Rescission of Antidumping Duty Administrative Review; 2018-2019

AGENCY: Enforcement and Compliance, International Trade Administration, Department of Commerce.

SUMMARY: The Department of Commerce (Commerce) preliminarily determines that certain steel nails (steel nails) from the Republic of Korea (Korea) were sold in the United States at less than normal value during the period of review (POR) of July 1, 2018 through June 30, 2019.

DATES: Applicable November 3, 2020.

FOR FURTHER INFORMATION CONTACT: Maisha Cryor or Eva Kim, AD/CVD Operations, Office IV, Enforcement and Compliance, International Trade Administration, U.S. Department of Commerce, 1401 Constitution Avenue NW, Washington, DC 20230; telephone: (202) 482-5831 or (202) 482-8283, respectively.

SUPPLEMENTARY INFORMATION:

Background

On July 13, 2015, Commerce published the antidumping duty (AD) Order on steel nails from Korea.¹ On July 1, 2019, Commerce notified interested parties of the opportunity to request an administrative review of orders with anniversaries in July 2019.² On July 11, 30, and 31, Koram Inc. (Koram), Je-il Wire Production Co., Ltd. (Je-il), Korea Wire Co., Ltd. (Kowire), and Mid Continent Steel & Wire, Inc. (the petitioner), respectively, requested that Commerce conduct an administrative review with respect to 131 companies.³ On September 9, 2019, Commerce initiated the AD administrative review of steel nails from Korea for the POR.⁴

¹ See Certain Steel Nails from the Republic of Korea, Malaysia, the Sultanate of Oman, Taiwan, and the Socialist Republic of Vietnam: Antidumping Duty Orders, 80 FR 39994 (July 13, 2015) (Order).

² See Antidumping or Countervailing Duty Order, Finding, or Suspended Investigation; Opportunity to Request Administrative Review, 84 FR 31295 (July 1, 2019).

³ See Petitioner's Letter, “Certain Steel Nails from Korea: Request for Administrative Reviews,” dated July 31, 2019; see also Koram's Letter, “Certain Steel Nails from the Republic of Korea, Case No. A-580-874: Request for Administrative Review,” dated July 11, 2019; Je-il's Letter, “Certain Steel Nails from the Republic of Korea: Request for Administrative Review for the Period July 1, 2018-June 30, 2019,” dated July 30, 2019; and Kowire's Letter, “Steel Nails from the Republic of Korea—Request for Administrative Review,” dated July 31, 2019.

⁴ See Initiation of Antidumping and Countervailing Duty Administrative Reviews, 84 FR 47242 (September 9, 2019).

On March 18, 2020, Commerce extended the deadline for the preliminary results of this review by 90 days.⁵ On April 24 and July 21, 2020, Commerce tolled the deadlines for administrative reviews by an additional 50 and 60 days, respectively.⁶ On October 15, 2020, Commerce extended the due date for issuing the preliminary results of this review by 10 days.⁷

⁵ See Memorandum, “Certain Steel Nails from the Republic of Korea: Extension of Deadline for Preliminary Results of Antidumping Duty Administrative Review,” dated March 18, 2020.

⁶ See Memorandum, “Tolling of Deadlines for Antidumping and Countervailing Duty Administrative Reviews in Response to Operational Adjustments Due to COVID-19,” dated April 24, 2020; see also Memorandum, “Tolling of Deadlines for Antidumping and Countervailing Duty Administrative Reviews,” dated July 21, 2020.

⁷ See Memorandum, “Certain Steel Nails from the Republic of Korea: Extension of Deadline for Preliminary Results of Antidumping Duty Administrative Review,” dated October 15, 2020.

Partial Rescission of Administrative Review

Commerce received timely requests to conduct an administrative review of certain exporters covering the POR. On October 2, 2019, the petitioner withdrew its administrative review request with respect to 129 of the 131 companies identified as producers/exporters in the petitioner's July 31, 2019 letter.⁸ On October 4 and 10, 2019, Commerce issued the initial AD questionnaires to Daejin Steel Company (Daejin), Je-il, Kowire, and Koram.⁹ On October 14, 2019, Koram withdrew its request for review.¹⁰ On October 16, 2019, Je-il withdrew its request for review.¹¹ Between November 1, 2019 and October 20, 2020, Daejin and Kowire timely responded to Commerce's requests for information.

⁸ See Petitioner's Letter, “Certain Steel Nails from Korea: Withdrawal of Requests for Administrative Reviews,” dated October 2, 2019 (Petitioner's Partial Withdrawal of Request for Review).

⁹ See Commerce's Letters to Daejin, Kowire, Je-il, and Koram with the AD Questionnaire attached dated October 4, 2019 and October 10, 2019.

¹⁰ See Koram's Letter, “Certain Steel Nails from the Republic of Korea, Case No. A-580-874: Withdrawal of Request for Administrative Review,” dated October 14, 2019 (Koram's Withdrawal of Review Request).

¹¹ See Je-il's Letter, “Certain Steel Nails from the Republic of Korea: Withdrawal of Review Request and Request for Rescission,” dated October 16, 2019. (Je-il's Withdrawal of Review Request).

Because the petitioner timely withdrew its request for review of all of the companies listed in the Initiation Notice, with the exception of Daejin and Kowire, and Je-il and Koram timely withdrew their requests for review, we are rescinding this administrative review with respect to the remaining companies on which we initiated a review pursuant to 19 CFR 351.213(d)(1).¹² For a list of the companies for which we are rescinding this review, see Appendix II to this notice. Accordingly, the two companies subject to the instant review are Daejin and Kowire.

¹² See Petitioner's Partial Withdrawal of Request for Review; Koram's Withdrawal of Review Request; and Je-il's Withdrawal of Review Request.

Scope of the Order

The merchandise covered by this Order is steel nails having a nominal shaft length not exceeding 12 inches.¹³ Merchandise covered by the Order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this Order also may be classified under HTSUS subheadings 7907.00.60.00, 8206.00.00.00 or other HTSUS subheadings. While the HTSUS subheadings are provided for convenience and customs purposes, the written description of the scope of this Order is dispositive. For a complete description of the scope of the Order, see the Preliminary Decision Memorandum.¹⁴

¹³ The shaft length of certain steel nails with flat heads or parallel shoulders under the head shall be measured from under the head or shoulder to the tip of the point. The shaft length of all other certain steel nails shall be measured overall.

¹⁴ See Memorandum, “Decision Memorandum for the Preliminary Results in the Fourth Antidumping Duty Administrative Review of Certain Steel Nails from the Republic of Korea,” dated concurrently with, and hereby adopted by, this notice (Preliminary Decision Memorandum).

The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly on the internet at http://enforcement.trade.gov/frn/. The signed and electronic versions of the Preliminary Decision Memorandum are identical in content.

Methodology

Commerce is conducting this review in accordance with section 751(a) of the Tariff Act of 1930, as amended (the Act). Export price and constructed export price are calculated in accordance with section 772 of the Act. Normal value is calculated in accordance with section 773 of the Act.

For a full description of the methodology underlying our conclusions, see the Preliminary Decision Memorandum. A list of topics included in the Preliminary Decision Memorandum is included as Appendix I to this notice.

Preliminary Results of Review

As a result of this review, we preliminarily determine the following weighted-average dumping margins for the period July 1, 2018 through June 30, 2019:

Exporter/producer | Weighted- average dumping margins (percent)
Daejin Steel Company | 1.84
Korea Wire Co., Ltd | 7.19

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than seven days after the time limit for filing case briefs.¹⁵

¹⁵ See 19 CFR 351.309(d)(1).

Note that Commerce has temporarily modified certain of its requirements for serving documents containing business proprietary information, until further notice.¹⁶ Parties who submit case briefs or rebuttal briefs in this proceeding are requested to submit with each brief: (1) A statement of the issue, (2) a brief summary of the argument, and (3) a table of authorities.¹⁷ Executive summaries should be limited to five pages total, including footnotes.¹⁸ Case and rebuttal briefs should be filed using ACCESS.¹⁹

¹⁶ See 19 CFR 351.303 (for general filing requirements); see also Temporary Rule Modifying AD/CVD Service Requirements Due to COVID-19, 85 FR 17006 (March 26, 2020); and Temporary Rule Modifying AD/CVD Service Requirements Due to COVID-19; Extension of Effective Period, 85 FR 41363 (July 10, 2020).

¹⁷ See 19 CFR 351.309(c)(2) and (d)(2).

¹⁸ Id.

¹⁹ See 19 CFR 351.303.

Pursuant to 19 CFR 351.310(c), any interested party may request a hearing within 30 days of the publication of this notice in the Federal Register. If a request for a hearing is made, Commerce intends to hold the hearing at a time and date to be determined. Interested parties who wish to request a hearing, or to participate if one is requested, must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs. We intend to issue the final results of this administrative review, including the results of our analysis of issues raised by the parties in the written comments, within 120 days of publication of these preliminary results in the Federal Register, unless otherwise extended.²⁰

²⁰ See section 751(a)(3)(A) of the Act.

Assessment Rates

Upon completion of the administrative review, Commerce shall determine, and U.S. Customs and Border Protection (CBP) shall assess, antidumping duties on all appropriate entries. Commerce intends to issue assessment instructions to CBP 15 days after the date of publication of the final results of this review.

For any individually examined respondents whose weighted-average dumping margin is above de minimis (i.e., 0.50 percent), we will calculate importer-specific ad valorem duty assessment rates on the basis of the ratio of the total amount of dumping calculated for an importer's examined sales and the total entered value of such sales, in accordance with 19 CFR 351.212(b)(1).²¹ For entries of subject merchandise during the POR produced by each respondent for which it did not know its merchandise was destined for the United States, we will instruct CBP to liquidate such entries at the all-others rate if there is no rate for the intermediate company(ies) involved in the transaction.²² Where either the respondent's weighted-average dumping margin is zero or de minimis, or an importer-specific assessment rate is zero or de minimis, we will instruct CBP to liquidate the appropriate entries without regard to antidumping duties.

²¹ In these preliminary results, Commerce applied the assessment rate calculation methodology adopted in Antidumping Proceedings: Calculation of the Weighted-Average Dumping Margin and Assessment Rate in Certain Antidumping Proceedings: Final Modification, 77 FR 8101 (February 14, 2012).

²² See Antidumping and Countervailing Duty Proceedings: Assessment of Antidumping Duties, 68 FR 23954 (May 6, 2003).

Commerce intends to issue appropriate assessment instructions directly to CBP 15 days after publication of this notice. The final results of this review shall be the basis for the assessment of antidumping duties on entries of merchandise covered by the final results of this review and for future deposits of estimated duties, where applicable.

Cash Deposit Requirement

The following cash deposit requirements will be effective upon publication of the notice of the final results of administrative review for all shipments of nails from Korea entered, or withdrawn from warehouse, for consumption on or after the date of publication of the final results of this administrative review, as provided by section 751(a)(2)(C) of the Act: (1) The cash deposit rate for the companies under review will be the rate established in the final results of this review (except, if the rate is zero or de minimis); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, then the cash deposit rate will be the rate established for the most recently completed segment of the proceeding for the manufacturer of the merchandise; and (4) the cash deposit rate for all other manufacturers or exporters will continue to be 11.80 percent ad valorem, the all-others rate established in the less-than-fair value investigation.²³

²³ See Certain Steel Nails from the Republic of Korea: Final Determination of Sales at Less Than Fair Value, 80 FR 28955 (May 20, 2015).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.213(h)(1).

Dated: October 28, 2020.
Jeffrey I. Kessler,
Assistant Secretary for Enforcement and Compliance.

Appendix I

List of Topics Discussed in the Preliminary Decision Memorandum

I. Summary

II. Background

III. Scope of the Order

IV. Rescission of Review, In Part

V. Discussion of the Methodology

VI. Recommendation

Appendix II

List of Companies for Which Commerce Is Rescinding This Review

AAA Line International (China).

Ansing Rich Tech & Trade Co. Ltd.

Astrotech Steels Private Limited.

Baoding Jimaotong Imp. & Exp. . Co., Ltd.

Beijing Catic Industry Ltd.

Beijing Jin Heung Co. Ltd.

Big Mind Group Co, Ltd.

Bonuts Hardware Logistics.

Cheng Ch International Co Ltd.

Chiapao Metal Co., Ltd.

China Staple Enterprise Co. Ltd.

Dezhou Xinjiayuan Hardware Products Co., Ltd.

Dezhou Hualude Hardware Products Co., Ltd.

Dong Yang Diecasting Co., Ltd.

Double-Moon Hardware Products Co., Ltd.

Duo-Fast Korea Co., Ltd.

Duo-Fast Co., Ltd.

ECI Taiwan Co., Ltd.

Eco Steel Co., Ltd.

Eco-Friendly Floor Ltd.

Ejem Brothers Limited.

Empac International Ltd.

Fastgrow International Co.

FASTCO (Shanghai) Trading Co., Ltd.

GD.CP International Co. Ltd.

Gdcp Richmax International Ltd.

Geekay Wires Limited.

Geekay Wires Ltd.

Grace International Co Ltd.

GWP Industries (Tianjin) Co., Ltd.

Hai Sheng Xin Group Co., Ltd

Hanbit Logistics Co., Ltd.

Hanmi Staple Co., Ltd.

Hebei Minmetals Co., Ltd.

Hebei Cangzhou New Century Foreign Trade Co., Ltd.

Hebei Jinsidun Trade Co. Ltd.

Hebei Minghao Import Export Co Li.

Hengtuo Metal Products Co Ltd.

Hong Kong Neos Technology Co.

Hongkong Shengshi Metal Products Co Ltd.

Hongyi Hardware Products Co., Ltd.

Hoyi Plus Co Ltd.

Inmax Industries Sdn. Bhd.

Inmax Sdn. Bhd.

JCD Group Co., Limited.

JCD Group Co., Ltd.

Je-il Wire Production Co., Ltd.

Jeil Tacker Co. Ltd.

Jinhai Hardware Co., Ltd.

Jinheung Steel Corporation.

Jinsco International Corp.

Koram Inc.

Koram Steel Co., Ltd.

Leling Taishan Artificial Turf Industry.

Liang Chyuan Industrial Co., Limited.

Liang Chyuan Ind. Co., Lmt.

Liaocheng Minghui Hardware Products.

Linyi Double-Moon Hardware Products Co., Ltd.

Linyi Flying Arrow Imp. & Exp. Ltd.

Max Co., Ltd.

M & M Industries Co., Ltd.

Macropower Industrial Inc.

Mingguang Ruifeng Hardware Products Co., Ltd.

Modern Factory for Metal Products.

MPROVE Co., Limited.

Nielsen Bainbridge LLC.

Nailtech Co. Ltd.

Nailtech Co., Limited.

Neo Gls.

Paslode Co., Ltd.

Peace Industries, Ltd.

Promising Way (Hong Kong) Limited.

Pro-Team Coil Nail Enterprise Inc.

Qingdao Ant Hardware Manufacturing Co., Ltd.

Qingdao Ant Hardware Manufacturing Co., Limited.

Qingdao Cheshire Trading Co. Ltd.

Qingdao D&L Group Ltd.

Qingdao D&O Houseware Co. Ltd.

Qingdao D&O Houseware Co. Limited.

Qingdao Hongyuan Nail Industry Co. Ltd.

Qingdao JCD Machinery Co., Ltd.

Qingdao Jisco Co., Ltd.

Qingdao Meijialucky Industry and Commerce Co., Ltd.

Qingdao Mst Industry and Commerce Co., Ltd.

Qingdao Sunrise Metal Products Co. Ltd.

Qingdao TianHeng Xiang metal Products Co., Ltd

Qingdao Tiger Hardware Co., Ltd.

Qingdao Yutong Concrete Hardware Co., Ltd.

Quick Advance Inc.

Region Industries Co., Ltd.

Sam Un Co. Ltd.

Shandong Oriental Cherry Hardware Import & Export Co., Ltd.

Shandong Oriental Cherry Hardware Group Co. Ltd.

Shandong Qingyun Hongyi Hardware Products Co., Ltd.

Shanghai Shenda Imp. & Exp. Co., Ltd.

Shanghai Zoonlion Industrial Co., Ltd.

Shanghai Zoonlion Industrial Co., Limited.

Shanxi Fasteners & Hardware Products Co., Ltd.

Shanxi Pioneer Hardware Industry Co., Ltd.

Shanxi Tianli Industries Co., Ltd.

Shenzhen Jie Ding Sheng Trading Co., Ltd.

Sherilee Co Ltd.

Smile Industries Ltd.

Suntec Industries Co., Ltd.

Theps Co., Ltd.

Tianjin Coways Metal Products Co.

Tianjin Hongli Qiangsheng Imp. & Exp.

Tianjin Hweschun Fasteners Manufacturing Co. Ltd.

Tianjin Jinchi Metal Products Co., Ltd.

Tianjin Jinghai County Hongli Industry and Business.

Tianjin International Trade Co. Ltd.

Tianjin Lituo Imp&Exp Co., Ltd.

Tianjin Liweitian Metal Technology.

Tianjin Zhonglian Metals Ware Co. Ltd.

Tianjin Zhonglian Times Technology.

Unicorn (Tianjin) Fasteners Co., Ltd.

United Company for Metal Products.

Weifang Wenhe Pneumatic Tools Co., Ltd.

Wulian Zhanpeng Metals Co., Ltd.

Xi'an Metals and Minerals Imp. Exp. Co., Ltd.

Xinjiayuan International Trade Co.

Youngwoo Fasteners Co., Ltd.

Youngwoo (Cangzhou) Fasteners Co., Ltd.

You-One Fastening Systems.

Zhaoqing Harvest Nails Co. Ltd.

Zhanghaiding Hardware Co., Ltd.

Zhejiang Best Nail Industrial Co., Ltd.

Zon Mon Co Ltd.

[FR Doc. 2020-24318 Filed 11-2-20; 8:45 am]

BILLING CODE 3510-DS-P